INTERNATIONAL TRADE COMMISSION

[Investigation No. 332-487]

Wood Flooring and Hardwood Plywood: Competitive Conditions Affecting the U.S. Industries

AGENCY: United States International Trade Commission.

ACTION: Rescheduling of public hearing.

SUMMARY: The Commission has rescheduled the public hearing in this investigation from September 13, 2007, to October 3, 2007. As announced in the notice of institution of the investigation published in the Federal Register on April 20, 2007 (72 FR 19960), the hearing will be held at the U.S. International Trade Commission Building, 500 E Street, SW., Washington, DC; it will begin at 9:30 a.m. Certain dates relating to the filing of written statements and other documents have been changed; the revised schedule of dates is set out immediately below. All other requirements and procedures set out in the notice published on April 20, 2007, continue to apply. In the event that, as of the close of business on September 12, 2007, no witnesses are scheduled to appear at the hearing, the hearing will be canceled. Any person interested in attending the hearing as an observer or nonparticipant may call the Secretary to the Commission (202-205-2000) after September 12, 2007, for information concerning whether the hearing will be held.

DATES: April 11, 2007: Date of institution.

September 12, 2007: Deadline for filing requests to appear at the public hearing.

September 19, 2007: Deadline for filing pre-hearing briefs and statements.

October 3, 2007, 9:30 a.m.: Public hearing.

October 24, 2007: Deadline for filing post-hearing briefs and statements.

January 11, 2008: Deadline for filing all other written statements.

June 6, 2008: Transmittal of report to the Committee on Finance.

FOR FURTHER INFORMATION CONTACT: Industry-specific information may be obtained from Fred Forstall, Co-Project Leader, (202-205-3443 or alfred.forstall@usitc.gov,) or David Ingersoll, Co-Project Leader, (202-205-2218 or dave.ingersoll@usitc.gov). For information on legal aspects of the investigation, contact William Gearhart of the Commission's Office of the General Counsel at 202-205-3091 or william.gearhart@usitc.gov. The media should contact Margaret O'Laughlin, Office of External Relations at 202-205-1819 or margaret.olaughlin@usitc.gov. Hearing impaired individuals are advised that information on this matter can be obtained by contacting the TDD terminal on 202-205-1810. General information concerning the Commission may also be obtained by accessing its Internet address (http://www.usitc.gov). Persons with mobility impairments who will need special assistance in gaining access to the Commission should contact the Secretary at 202-205-2000.

Issued: July 3, 2007.
By order of the Commission.
Marilyn R. Abbott,
Secretary to the Commission.

[FR Doc. E7-13187 Filed 7-6-07; 8:45 am]

BILLING CODE 7020-02-P